DEPARTMENT OF JUSTICE

Federal Bureau of Investigation

National Domestic Preparedness Office, FBI, DOJ; Committee Management; Notice of Establishment

In accordance with the provisions of the Federal Advisory Committee Act (Title 5, United States Code, Appendix 2), the Director, FBI, with the concurrence of the Attorney General, has determined that the establishment of the State and Local Advisory Group to the National Domestic Preparedness Office (NDPO) is necessary and in the public interest, in connection with the performance of duties imposed upon the FBI by law, and hereby gives notice of its establishment. This determination follows consultation with the Office of Management and Budget and with the Committee Management Secretariate, General Services Administration.

Name of Committee: State and Local Advisory Group to the NDPO.

Purpose and Objective: The State and Local Advisory Group shall provide the Attorney General and the NDPO practical and general policy advice regarding program strategy, development, and implementation in support of the NDPO goal to enhance the capabilities of emergency responders and medical and public health officials at all levels to respond safely and effectively to potential or actual terrorist acts involving weapons of mass destruction (WMD). The Advisory Group will serve as the interface between federal domestic preparedness planning and the needs and priorities of the state and local emergency response and health care communities.

Balanced Membership Plans: The Advisory Group will have approximately 30 members who will reflect a balanced representation of perspectives and interests from the emergency response community. It will represent the diverse functional areas of state and local entities which may be involved in the planning for or response to a terrorism incident involving WMD; e.g., fire/rescue, HAZMAT, emergency medical and public health services, law enforcement, emergency management, and state and local governments. Members have been selected from recommendations made by the federal agency partners in the NDPO, as well as by members of Congress, various professional response associations, and the general public. Criteria guiding the selection of members included:

—Demonstrated background and interest in the issue of domestic preparedness, particularly in the area of WMD terrorism response;

—Objectivity and diversity with regard to professional perspective;

—Nondiscrimination on the basis of race, color, national origin, religion, age, sex, or sexual orientation; and

—Geographical balance.

Duration: Two years, subject to renewal.

Responsible FBI Official: Thomas G. Kinnally, Administrator, NDPO, Room 5214, Federal Bureau of Investigation, 935 Pennsylvania Avenue, NW., Washington, DC 20535.

Dated: August 3, 2000.
Dale L. Watson,
Assistant Director in Charge, Counterterrorism Division.

[FR Doc. 00-21067 Filed 8-18-00; 8:45 am]

BILLING CODE 4410-02-P